DEPARTMENT OF COMMERCE

National Oceanic and Atmospheric Administration

50 CFR Part 679

[Docket No. 051205324-5324-01; I.D. 112805B]

Fisheries of the Exclusive Economic Zone Off Alaska; Bering Sea and Aleutian Islands; 2006 and 2007 Proposed Harvest Specifications for Groundfish

AGENCY: National Marine Fisheries Service (NMFS), National Oceanic and Atmospheric Administration (NOAA), Commerce.

ACTION: Proposed rule; request for comments.

SUMMARY: NMFS proposes 2006 and 2007 harvest specifications and prohibited species catch (PSC) allowances for the groundfish fishery of the Bering Sea and Aleutian Islands management area (BSAI). This action is necessary to establish harvest limits for groundfish during the 2006 and 2007 fishing years and to accomplish the goals and objectives of the Fishery Management Plan for Groundfish of the Bering Sea and Aleutian Islands Management Area (FMP). The intended effect of this action is to conserve and manage the groundfish resources in the BSAI in accordance with the Magnuson-Stevens Fishery Conservation and Management Act (Magnuson-Stevens Act).

DATES: Comments must be received by January 17, 2006.

ADDRESSES: Send comments to Sue Salveson, Assistant Regional Administrator, Sustainable Fisheries Division, Alaska Region, NMFS, Attn: Lori Durall. Comments may be submitted by:

• Webform at the Federal eRulemaking Portal: http://www.regulations.gov. Follow the instructions at that site for submitting comments;

• Mail to P.O. Box 21668, Juneau, AK 99802;

• Hand Delivery to the Federal Building, 709 West 9th Street, Room 420A, Juneau, AK;

• E-mail to 2006AKgroundfish.tacspecs@noaa.gov and include in the subject line the document identifier: 2006 Proposed Specifications (E-mail comments, with or without attachments, are limited to 5 megabytes); or

• Fax to 907-586-7557.

Copies of the draft Environmental Assessment/Initial Regulatory Flexibility Analysis (EA/IRFA) prepared for this action are available from NMFS at the addresses above or from the Alaska Region Web site at http://www.fakr.noaa.gov. Copies of the final 2004 Stock Assessment and Fishery Evaluation (SAFE) report for the groundfish resources of the BSAI, dated November 2004, are available from the North Pacific Fishery Management Council (Council), West 4th Avenue, Suite 306, Anchorage, AK 99510-2252, 907-271-2809, or from its Web site at http://www.fakr.noaa.gov/npfmc.

FOR FURTHER INFORMATION CONTACT: Mary Furuness, 907-586-7228, or e-mail at mary.furuness@noaa.gov.

SUPPLEMENTARY INFORMATION:

Background

Federal regulations at 50 CFR part 679 implement the FMP and govern the groundfish fisheries in the BSAI. The Council prepared the FMP and NMFS approved it under the Magnuson-Stevens Act. General regulations governing U.S. fisheries also appear at 50 CFR part 600.

The FMP and its implementing regulations require NMFS, after consultation with the Council, to specify annually the total allowable catch (TAC) for each target species and the “other species” category, the sum of which must be within the optimum yield range of 1.4 million to 2.0 million metric tons (mt) (see § 679.20(a)(1)(i)). Regulations at § 679.20(c)(1) further require NMFS to publish proposed harvest specifications in the Federal Register and solicit public comment on proposed annual TACs and apportionments thereof, PSC allowances and prohibited species quota (PSQ) reserves established by § 679.21, seasonal allowances of pollock, Pacific cod and Atka mackerel TAC, including pollock Community Development Quota (CDQ), and CDQ reserve amounts established by § 679.20(b)(1)(iii). The proposed harvest specifications set forth in Tables 1 through 13 of this action satisfy these requirements.

Under § 679.20(c)(3), NMFS will publish the final harvest specifications for 2006 and 2007 after (1) considering comments received within the comment period (see DATES), (2) consulting with the Council at its December 2005 meeting, and (3) considering new information presented in the EA and the final 2005 SAFE reports prepared for the 2006 and 2007 groundfish fisheries.

Other Rules Affecting the 2006 and 2007 Harvest Specifications

When possible, this proposed rule identifies proposals that are under consideration by the Council that, if approved by the Secretary of Commerce (Secretary), could change the final harvest specifications. The 2006 harvest specifications will be updated in early 2006, when final harvest specifications for 2006 and new harvest specifications for 2007 are implemented.

The Council is reviewing Amendment 85, which may revise the BSAI Pacific cod sector allocation and apportion the Pacific cod acceptable biological catch (ABC) or TAC by Bering Sea subarea and Aleutian Islands (AI) subarea separately instead of by the entire BSAI management area. The Council is also reviewing Amendment 84, which may modify current regulations for managing incidental catch of chinook and chum salmon. The Council may consider separating some rockfish species from the “other rockfish” species category so individual overfishing levels (OFLs), ABCs, and TACs may be established for some rockfish species. The Council may pursue a change to the start date for the BSAI pollock “A” season fishery. An earlier start date would allow the fleet more flexibility to harvest pollock when roe content is optimal.

Proposed ABC and TAC Harvest Specifications

The proposed ABC levels are based on the best available biological and socioeconomic information, including projected biomass trends, information on assumed distribution of stock biomass, and revised technical methods used to calculate stock biomass. In general, the development of ABCs and OFLs involves sophisticated statistical analyses of fish populations and is based on a successive series of six levels, or tiers, of reliable information available to fishery scientists. Tier one represents the highest level of data quality available and tier six the lowest level of data quality available.

Appendix A to the final SAFE report for the 2005 BSAI groundfish fisheries dated November 2004 (see ADDRESSES) sets forth the best information currently available. Information on the status of stocks will be updated with the 2005 survey results and reconsidered by the Plan Team in November 2005 for the 2005 SAFE report. The 2006 and 2007 final harvest specifications will be based on the 2005 SAFE report.

In October 2005, the Scientific and Statistical Committee (SSC), Advisory Panel, and the Council reviewed the Plan Team's preliminary projections as the basis for the 2006 and 2007 proposed ABC, OFL, and TAC amounts. The SSC concurred in the Plan Team's recommendations which, for stocks in tiers 1-3, used 2005 estimated fishing mortality rates in stock projection models to estimate OFLs and ABCs for 2006. The estimated 2006 TACs were derived based on ABC constraints and past Council actions. The estimated 2006 TACs were treated as the projected 2006 fishing mortality rates to derive estimates of OFLs and ABCs for 2007. For stocks in tiers 4-6, for which there are no population projection models, the OFL and ABC amounts from 2005 were used for 2006 and 2007. The Council adopted the OFL and ABC amounts recommended by the SSC (Table 1). The Council recommended that the 2006 proposed TACs be set equal to the 2006 TACs the Council adopted and the Secretary approved in 2005 for the 2006 final specifications (70 FR 8979, February 24, 2005). The Council recommended that the 2007 proposed TACs be set equal to the proposed ABCs, except for decreases for Aleutian Islands and Bogoslof pollock, arrowtooth flounder, Alaska plaice, and other species. The Council recommended using the 2005 and 2006 PSC allowances for the 2006 and 2007 proposed allowances. The Council will reconsider the OFL, ABC, TAC, and PSC amounts in December 2005 after the Plan Team incorporates new status of groundfish stocks information into a final 2005 SAFE report for the 2006 and 2007 BSAI groundfish fishery. None of the Council's recommended proposed TACs for 2006 or 2007 exceeds the recommended 2006 or 2007 proposed ABC for any species category. NMFS finds the Council's recommended proposed 2006 and 2007 OFLs, ABCs, and TACs are consistent with the best available information on the biological condition of the groundfish stocks.

Table 1 lists the 2006 and 2007 proposed OFL, ABC, and TAC, initial TAC (ITAC) and CDQ amounts for groundfish in the BSAI. The proposed apportionment of TAC amounts among fisheries and seasons is discussed below.

Table 1.—2006 and 2007 Proposed Overfishing Level (OFL), Acceptable Biological Catch (ABC), Total Allowable Catch (TAC), Initial TAC (ITAC), and CDQ Reserve Allocation of Groundfish in the BSAI ¹
[Amounts are in metric tons]
Species | Area | 2006: OFL | 2006: ABC | 2006: TAC | 2006: ITAC ² | 2006: CDQ ³ | 2007: OFL | 2007: ABC | 2007: TAC | 2007: ITAC ² | 2007: CDQ ³
Pollock ⁴ | BS ² | 1,966,100 | 1,636,800 | 1,487,756 | 1,338,980 | 148,776 | 1,487,100 | 1,223,200 | 1,223,200 | 1,100,880 | 122,320
| AI ² | 39,100 | 29,400 | 19,000 | 17,100 | 1,900 | 39,100 | 29,400 | 19,000 | 17,100 | 1,900
| Bogoslof | 39,600 | 2,570 | 10 | 10 | n/a | 39,600 | 2,570 | 11 | 11 | n/a
Pacific cod | BSAI | 250,700 | 195,000 | 195,000 | 165,750 | 14,625 | 222,000 | 172,200 | 172,200 | 146,370 | 12,915
Sablefish ⁵ | BS | 3,085 | 2,556 | 2,310 | 982 | 318 | 2,880 | 2,400 | 2,400 | 1,020 | 44490
| AI | 3,315 | 2,744 | 2,480 | 527 | 419 | 3,120 | 2,600 | 2,600 | 553 | 49
Atka mackerel | BSAI | 126,700 | 107,000 | 63,000 | 53,550 | 4,725 | 106,900 | 90,800 | 90,800 | 77,180 | 6,810
| WAI | n/a | 40,230 | 20,000 | 17,000 | 1,500 | n/a | 28,825 | 28,825 | 24,501 | 2,162
| CAI | n/a | 45,580 | 35,500 | 30,175 | 2,663 | n/a | 51,165 | 51,165 | 43,490 | 3,837
| EAI/BS | n/a | 21,190 | 7,500 | 6,375 | 563 | n/a | 10,810 | 10,810 | 9,189 | 811
Yellowfin sole | BSAI | 139,500 | 117,700 | 90,000 | 76,500 | 6,750 | 130,000 | 109,600 | 109,600 | 93,160 | 8,220
Rock sole | BSAI | 145,100 | 121,700 | 42,000 | 35,700 | 3,150 | 138,400 | 116,100 | 116,100 | 98,685 | 8,708
Greenland turbot | BSAI | 18,100 | 11,400 | 3,500 | 2,975 | 263 | 16,900 | 10,500 | 10,500 | 8,925 | 788
| BS | n/a | 7,590 | 2,500 | 2,125 | 188 | n/a | 7,500 | 7,500 | 6,375 | 563
| AI | n/a | 3,410 | 1,000 | 850 | 75 | n/a | 3,000 | 3,000 | 2,550 | 225
Arrowtooth flounder | BSAI | 128,500 | 104,200 | 12,000 | 10,200 | 900 | 125,800 | 102,100 | 39,100 | 33,235 | 2,933
Flathead sole | BSAI | 65,900 | 54,900 | 20,000 | 17,000 | 1,500 | 60,800 | 50,600 | 50,600 | 43,010 | 3,795
Other flatfish ⁶ | BSAI | 28,500 | 21,400 | 3,000 | 2,550 | 225 | 28,500 | 21,400 | 21,400 | 18,190 | 1,605
Alaska plaice | BSAI | 231,000 | 183,400 | 10,000 | 8,500 | 750 | 224,400 | 178,100 | 65,000 | 55,250 | 4,875
Pacific ocean perch | BSAI | 17,600 | 14,900 | 12,600 | 10,710 | 945 | 17,900 | 15,100 | 15,100 | 12,835 | 1,133
| BS | n/a | 3,000 | 1,400 | 1,190 | 105 | n/a | 1,678 | 1,678 | 1,426 | 126
| WAI | n/a | 5,450 | 5,085 | 4,322 | 381 | n/a | 6,096 | 6,096 | 5,182 | 457
| CAI | n/a | 3,252 | 3,035 | 2,580 | 228 | n/a | 3,637 | 3,637 | 3,091 | 273
| EAI | n/a | 3,298 | 3,080 | 2,618 | 231 | n/a | 3,689 | 3,689 | 3,136 | 277
Northern rockfish | BSAI | 9,800 | 8,200 | 5,000 | 4,250 | 375 | 9,700 | 8,200 | 8,200 | 6,970 | 615
Shortraker rockfish | BSAI | 794 | 596 | 596 | 507 | 45 | 794 | 596 | 596 | 507 | 45
Rougheye rockfish | BSAI | 298 | 223 | 223 | 190 | 17 | 298 | 223 | 223 | 190 | 17
Other rockfish ⁷ | BS | 1,122 | 810 | 460 | 391 | 35 | 1,122 | 810 | 810 | 689 | 61
| AI | 748 | 590 | 590 | 502 | 44 | 748 | 590 | 590 | 502 | 44
Squid | BSAI | 2,620 | 1,970 | 1,275 | 1,084 | n/a | 2,620 | 1,970 | 1,970 | 1,675 | n/a
Other species ⁸ | BSAI | 87,920 | 57,870 | 29,200 | 24,820 | 2,190 | 87,920 | 57,870 | 50,000 | 42,500 | 3,750
Total |  | 3,306,102 | 2,675,629 | 2,000,000 | 1,772,778 | 187,953 | 2,746,602 | 2,196,929 | 2,000,000 | 1,759,437 | 180,673
¹ These amounts apply to the entire BSAI management area unless otherwise specified. With the exception of pollock, and for the purpose of these harvest specifications, the Bering Sea (BS) subarea includes the Bogoslof District.
² Except for pollock and the portion of the sablefish TAC allocated to hook-and-line and pot gear, 15 percent of each TAC is put into a reserve. The ITAC for each species is the remainder of the TAC after the subtraction of these reserves.
³ Except for pollock, squid and the hook-and-line or pot gear allocation of sablefish, one half of the amount of the TACs placed in reserve, or 7.5 percent of the TACs, is designated as a CDQ reserve for use by CDQ participants (see §§ 679.20(b)(1)(iii) and 679.31).
⁴ Under § 679.20(a)(5)(i)(A)(1), the annual Bering Sea pollock TAC after subtraction for the CDQ directed fishing allowance—10 percent and the ICA—3.5 percent, is further allocated by sector for a directed pollock fishery as follows: inshore—50 percent; catcher/processor—40 percent; and motherships—10 percent. Under § 679.20(a)(5)(iii)(B)(2)(i) and (ii), the annual AI pollock TAC, after subtraction for the CDQ directed fishing allowance—10 percent and the ICA—1,800 mt, is allocated to the Aleut Corporation for a directed pollock fishery.
⁵ The ITAC for sablefish reflected in Table 1 is for trawl gear only. Regulations at § 679.20(b)(1) do not provide for the establishment of an ITAC for the hook-and-line and pot gear allocation for sablefish. Twenty percent of the sablefish TAC allocated to hook-and-line gear or pot gear and 7.5 percent of the sablefish TAC allocated to trawl gear is reserved for use by CDQ participants (see § 679.20(b)(1)(iii)).
⁶ “Other flatfish” includes all flatfish species, except for halibut (a prohibited species), flathead sole, Greenland turbot, rock sole, yellowfin sole, arrowtooth flounder and Alaska plaice.
⁷ “Other rockfish” includes all Sebastes and Sebastolobus species except for Pacific ocean perch, northern, shortraker, and rougheye rockfish.
⁸ “Other species” includes sculpins, sharks, skates and octopus. Forage fish, as defined at § 679.2, are not included in the “other species” category.

Reserves and the Incidental Catch Allowance (ICA) for Pollock

Regulations at § 679.20(b)(1)(i) require placement of 15 percent of the TAC for each target species or species group, except for pollock and the hook-and-line and pot gear allocation of sablefish, in a non-specified reserve. Regulations at § 679.20(b)(1)(iii) further require the allocation of one half of each TAC amount that is placed in the non-specified reserve (7.5 percent), with the exception of squid, to the groundfish CDQ reserve, and the allocation of 20 percent of the hook-and-line and pot gear allocation of sablefish to the fixed gear sablefish CDQ reserve. Regulations at §§ 679.20(a)(5)(i)(A) and 679.31(a) also require the allocation of 10 percent of the BSAI pollock TACs to the pollock CDQ directed fishing allowance. The entire Bogoslof District pollock TAC is allocated as an ICA (see § 679.20(a)(5)(ii)). With the exception of the hook-and-line and pot gear sablefish CDQ reserve, the regulations do not further apportion the CDQ reserves by gear. Regulations at § 679.21(e)(1)(i) also require withholding of 7.5 percent of each PSC limit, with the exception of herring, as a PSQ reserve for the CDQ fisheries. Sections 679.30 and 679.31 set forth the regulations governing the management of the CDQ and PSQ reserves.

Under regulations at § 679.20(a)(5)(i)(A)(1), NMFS allocates a pollock ICA of 3.5 percent of the Bering Sea pollock TAC after subtraction of the 10 percent CDQ reserve. This allowance is based on NMFS' examination of the incidental catch of pollock in target fisheries other than pollock from 1999 through 2004. During this 6-year period, the incidental catch of pollock ranged from a low of 2 percent in 2003 to a high of 5 percent in 1999, with a 6-year average of 3.5 percent. Because these incidental percentages are contingent on the relative amounts of other groundfish TACs, NMFS will be better able to assess the ICA amount when the Council makes final ABC and TAC amount recommendations in December. Under regulations at § 679.20(a)(5)(iii)(B)(2)(i) and (ii), NMFS recommends setting a 1,800 mt ICA for AI subarea pollock after a subtraction of the 10 percent CDQ directed fishing allowance.

The regulations do not designate the remainder of the non-specified reserve by species or species group, and any amount of the reserve may be reapportioned to a target species or the “other species” category during the year, providing that such reapportionments do not result in overfishing (see § 679.20(b)(1)(ii)).

Allocations of Pollock TAC Under the American Fisheries Act (AFA)

Regulations at § 679.20(a)(5)(i)(A) require that the pollock TAC apportioned to the Bering Sea subarea, after subtraction of the 10 percent for the CDQ program and the 3.5 percent for the ICA, will be allocated as a directed fishing allowance (DFA) as follows: 50 percent to the inshore sector, 40 percent to the catcher/processor sector, and 10 percent to the mothership sector. In the Bering Sea subarea, the A season (January 20-June 10) is allocated 40 percent of the DFA and the B season (June 10-November 1) is allocated 60 percent of the DFA. The AI directed pollock fishery allocation to the Aleut Corporation equals the AI subarea pollock TAC after subtracting first the 10 percent for the CDQ DFA (1,900 mt) and second the ICA (1,800 mt). In the AI subarea, 40 percent of the ABC is allocated to the A season and the remainder of the directed pollock fishery is allocated to the B season. Table 2 lists these 2006 and 2007 proposed amounts.

The regulations also include several specific requirements regarding pollock and pollock allocations under § 679.20(a)(5)(i)(A)(4). First, 8.5 percent of the pollock allocated to the catcher/processor sector will be available for harvest by AFA catcher vessels with catcher/processor sector endorsements, unless the Regional Administrator receives a cooperative contract that provides for the distribution of harvest among AFA catcher/processors and AFA catcher vessels in a manner agreed to by all members. Second, AFA catcher/processors not listed in the AFA are limited to harvesting not more than 0.5 percent of the pollock allocated to the catcher/processor sector. Table 2 lists the 2006 and 2007 proposed allocations of pollock TAC. Tables 8 through 13 list other provisions of the AFA, including inshore pollock cooperative allocations and listed catcher/processor and catcher vessel harvesting sideboard limits.

Table 2 also lists seasonal apportionments of pollock and harvest limits within the Steller Sea Lion Conservation Area (SCA). The harvest within the SCA, as defined at § 679.22(a)(7)(vii), is limited to 28 percent of the DFA until April 1. The remaining 12 percent of the 40 percent of the annual DFA allocated to the A season may be taken outside the SCA before April 1 or inside the SCA after April 1. If the 28 percent of the annual DFA is not taken inside the SCA before April 1, the remainder will be available to be taken inside the SCA after April 1. The A season pollock SCA harvest limit will be apportioned to each sector in proportion to each sector's allocated percentage of the DFA. Table 2 lists by sector these 2006 and 2007 proposed amounts.

Table 2.—2006 and 2007 Proposed Allocations of Pollock TACs to the Directed Pollock Fisheries and to the CDQ Directed Fishing Allowances (DFA)¹
[Amounts are in metric tons]
Area and sector | 2006 allocations | 2006 A season ¹: A season DFA | 2006 A season ¹: SCA harvest limit ² | 2006 B season ¹: B season DFA | 2007 allocations | 2007 A season ¹: A season DFA | 2007 A season ¹: SCA harvest limit ² | 2007 B season: B season DFA
Bering Sea subarea | 1,487,756 | n/a | n/a | n/a | 1,223,200 | n/a | n/a | n/a
CDQ DFA | 148,776 | 59,510 | 41,657 | 89,265 | 122,320 | 48,928 | 34,250 | 73,392
ICA¹ | 46,864 | n/a | n/a | n/a | 38,531 | n/a | n/a | n/a
AFA Inshore | 646,058 | 258,423 | 180,896 | 387,635 | 531,175 | 212,470 | 148,729 | 318,705
AFA Catcher/Processors ³ | 516,846 | 206,739 | 144,717 | 310,108 | 424,940 | 169,976 | 118,983 | 254,964
Catch by C/Ps | 472,914 | 189,166 | n/a | 283,749 | 388,820 | 155,528 | n/a | 233,292
Catch by CVs ³ | 43,932 | 17,573 | n/a | 26,359 | 36,120 | 14,448 | n/a | 21,672
Unlisted C/P Limit ⁴ | 2,584 | 1,034 | n/a | 1,551 | 2,125 | 850 | n/a | 1,275
AFA Motherships | 129,212 | 51,685 | 36,179 | 77,527 | 106,235 | 42,494 | 29,746 | 63,741
Excessive Harvesting Limit ⁵ | 226,120 | n/a | n/a | n/a | 185,911 | n/a | n/a | n/a
Excessive Processing Limit ⁶ | 387,635 | n/a | n/a | n/a | 318,705 | n/a | n/a | n/a
Total Bering Sea DFA | 1,487,756 | 576,357 | 403,450 | 864,535 | 1,223,200 | 473,868 | 331,707 | 710,802
Aleutian Islands subarea ¹ | 19,000 | n/a | n/a | n/a | 19,000 | n/a | n/a | n/a
CDQ DFA | 1,900 | 760 | n/a | 1,140 | 1,900 | 760 | n/a | 1,140
ICA | 1,800 | 1,000 | n/a | 800 | 1,800 | 1,000 | n/a | 800
Aleut Corporation | 15,300 | 10,000 | n/a | 5,300 | 15,300 | 10,000 | n/a | 5,300
Bogoslof District ICA ⁷ | 10 | n/a | n/a | n/a | 11 | n/a | n/a | n/a
¹ Under § 679.20(a)(5)(i)(A), the Bering Sea subarea pollock after subtraction for the CDQ DFA—10 percent and the ICA—3.5 percent, the pollock TAC is allocated as a DFA as follows: Inshore component—50 percent, catcher/processor component—40 percent, and mothership component—10 percent. In the Bering Sea subarea, the A season, January 20-June 10, is allocated 40 percent of the DFA and the B season, June 10-November 1 is allocated 60 percent of the DFA. The Aleutian Islands (AI) AI directed pollock fishery allocation to the Aleut Corporation remains after subtraction for the CDQ DFA—10 percent and the ICA—1,800 mt. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³ Under § 679.20(a)(5)(i)(A)(4), not less than 8.5 percent of the DFA allocated to listed catcher/processors shall be available for harvest only by eligible catcher vessels delivering to listed catcher/processors.
⁴ Under § 679.20(a)(5)(i)(A)(4)(iii), the AFA unlisted catcher/processors are limited to harvesting not more than 0.5 percent of the catcher/processors sector's allocation of pollock.
⁵ Under § 679.20(a)(5)(i)(A)(6) NMFS establishes an excessive harvesting share limit equal to 17.5 percent of the sum of the pollock DFAs.
⁶ Under § 679.20(a)(5)(i)(A)(7) NMFS establishes an excessive processing share limit equal to 30.0 percent of the sum of the pollock DFAs.
⁷ The Bogoslof District is closed by the proposed harvest specifications to directed fishing for pollock. The amounts specified are for ICA only, and are not apportioned by season or sector.

Allocation of the Atka Mackerel TAC

Under § 679.20(a)(8)(i), up to 2 percent of the Eastern Aleutian District and the Bering Sea subarea Atka mackerel ITAC may be allocated to jig gear. The amount of this allocation is determined annually by the Council based on several criteria, including the anticipated harvest capacity of the jig gear fleet. The Council recommended and NMFS proposes that 1 percent of the Atka mackerel ITAC in the Eastern Aleutian District and the Bering Sea subarea be allocated to jig gear in 2006 and 2007. Based on the 2006 ITAC of 6,375 mt, the jig gear allocation is 64 mt for 2006. Based on the 2007 ITAC of 9,189 mt, the jig gear allocation is 92 mt for 2007.

Regulations at § 679.20(a)(8)(ii)(A) apportion the Atka mackerel ITAC into two equal seasonal allowances. After subtraction of the jig gear allocation, the first allowance is made available for directed fishing from January 1 (January 20 for trawl gear) to April 15 (A season), and the second seasonal allowance is made available from September 1 to November 1 (B season) (Table 3).

Under § 679.20(a)(8)(ii)(C)(1), the Regional Administrator establishes a harvest limit area (HLA) limit of no more than 60 percent of the seasonal TAC for the Western and Central Aleutian Districts. A lottery system is used for the HLA Atka mackerel directed fisheries to reduce the amount of daily catch in the HLA by about half and to disperse the fishery over two districts (see § 679.20(a)(8)(iii)).

Table 3.—2006 and 2007 Proposed Seasonal and Spatial Allowances, Gear Shares, and CDQ Reserve of the BSAI ATKA Mackerel TAC ¹
[Amounts are in metric tons]
Subarea and component | 2006 TAC | 2006 CDQ reserve | 2006 CDQ reserve HLA limit ⁴ | 2006 ITAC | 2006 Seasonal allowances ²: A season ³: Total | 2006 Seasonal allowances ²: A season ³: HLA limit ⁴ | 2006 Seasonal allowances ²: B season ³: Total | 2006 Seasonal allowances ²: B season ³: HLA limit ⁴ | 2006 Seasonal allowances ²: B season ³
Western AI District | 20,000 | 1,500 | 900 | 17,000 | 8,500 | 5,100 | 8,500 | 5,100
Central AI District | 35,500 | 2,663 | 1,598 | 30,175 | 15,088 | 9,053 | 15,088 | 9,053
EAI/BS subarea ⁵ | 7,500 | 563 | n/a | 6,375 | n/a | n/a | n/a | n/a
Jig (1%) ⁶ | n/a | n/a | n/a | 64 | n/a | n/a | n/a | n/a
Other gear (99%) | n/a | n/a | n/a | 6,311 | 3,156 | n/a | 3,156 | n/a
Total | 63,000 | 4,725 | n/a | 53,550 | 26,743 | n/a | 26,743 | n/a

Subarea and component | 2007 TAC | 2007 CDQ reserve | 2007 CDQ reserve HLA limit ⁴ | 2007 ITAC | Seasonal allowances ²: A season ³: Total | Seasonal allowances ²: A season ³: HLA limit ⁴ | Seasonal allowances ²: B season ³: Total | Seasonal allowances ²: B season ³: HLA limit ⁴ | Seasonal allowances ²: B season ³
Western AI District | 28,825 | 2,162 | 1,297 | 24,501 | 12,251 | 7,350 | 12,251 | 7,350
Central AI District | 51,165 | 3,837 | 2,302 | 43,490 | 21,745 | 13,047 | 21,745 | 13,047
EAI/BS subarea ⁵ | 10,810 | 811 | n/a | 9,189 | n/a | n/a | n/a | n/a
Jig (1%) ⁶ | n/a | n/a | n/a | 92 | n/a | n/a | n/a | n/a
Other gear (99%) | n/a | n/a | n/a | 9,097 | 4,549 | n/a | 4,548 | n/a
Total | 90,800 | 6,810 | n/a | 77,180 | 38,544 | n/a | 38,544 | n/a
¹ Regulations at §§ 679.20(a)(8)(ii) and 679.22(a) establish temporal and spatial limitations for the Atka mackerel fishery.
² The seasonal allowances of Atka mackerel are 50 percent in the A season and 50 percent in the B season.
³ The A season is January 1 (January 20 for trawl gear) to April 15 and the B season is September 1 to November 1.
⁴ Harvest Limit Area (HLA) limit refers to the amount of each seasonal allowance that is available for fishing inside the HLA (see § 679.2). In 2006 and 2007, 60 percent of each seasonal allowance is available for fishing inside the HLA in the Western and Central Aleutian Districts.
⁵ Eastern Aleutian District and the Bering Sea subarea.
⁶ Regulations at § 679.20(a)(8)(i) require that up to 2 percent of the Eastern Aleutian District and the Bering Sea subarea ITAC be allocated to jig gear. The proposed amount of this allocation is 1 percent. The jig gear allocation is not apportioned by season.

Allocation of the Pacific Cod TAC

Under § 679.20(a)(7)(i)(A), 2 percent of the Pacific cod ITAC is allocated to vessels using jig gear, 51 percent to vessels using hook-and-line or pot gear, and 47 percent to vessels using trawl gear. Under regulations at § 679.20(a)(7)(i)(B), the portion of the Pacific cod ITAC allocated to trawl gear is further allocated 50 percent to catcher vessels and 50 percent to catcher/processors. Under regulations at § 679.20(a)(7)(i)(C)(1), a portion of the Pacific cod ITAC allocated to hook-and-line or pot gear is set aside as an ICA of Pacific cod in directed fisheries for groundfish using these gear types. Based on anticipated incidental catch in these fisheries, the Regional Administrator proposes an ICA of 500 mt. The remainder of Pacific cod is further allocated to vessels using hook-and-line or pot gear as the following DFAs: 80 percent to hook-and-line catcher/processors, 0.3 percent to hook-and-line catcher vessels, 3.3 percent to pot catcher processors, 15 percent to pot catcher vessels, and 1.4 percent to catcher vessels under 60 feet (18.3 m) length overall (LOA) using hook-and-line or pot gear.

Due to concerns about the potential impact of the Pacific cod fishery on Steller sea lions and their critical habitat, the apportionment of the ITAC disperses the Pacific cod fisheries into seasonal allowances (see §§ 679.20(a)(7)(iii)(A) and 679.23(e)(5)). For pot and most hook-and-line gear, the first seasonal allowance of 60 percent of the ITAC is made available for directed fishing from January 1 to June 10, and the second seasonal allowance of 40 percent of the ITAC is made available from June 10 (September 1 for pot gear) to December 31. No seasonal harvest constraints are imposed on the Pacific cod fishery by catcher vessels less than 60 feet (18.3 m) LOA using hook-and-line or pot gear. For trawl gear, the first season is January 20 to April 1 and is allocated 60 percent of the ITAC. The second season, April 1 to June 10, and the third season, June 10 to November 1, are each allocated 20 percent of the ITAC. The trawl catcher vessel allocation is further allocated as 70 percent in the first season, 10 percent in the second season, and 20 percent in the third season. The trawl catcher/processor allocation is allocated 50 percent in the first season, 30 percent in the second season, and 20 percent in the third season. For jig gear, the first and third seasonal allowances are each allocated 40 percent of the ITAC and the second seasonal allowance is allocated 20 percent of the ITAC. Table 4 lists the 2006 and 2007 proposed allocations and seasonal apportionments of the Pacific cod ITAC. In accordance with § 679.20(a)(7)(ii)(D) and (a)(7)(iii)(B), any unused portion of a seasonal Pacific cod allowance will become available at the beginning of the next seasonal allowance.

Table 4.—2006 and 2007 Proposed Gear Shares and Seasonal Allowances of the BSAI Pacific Cod ITAC
[Amounts are in metric tons]
Gear sector | Percent | 2006 Share of gear sector total | 2006 Subtotal percentages for gear sectors | 2006 Share of gear sector total | 2006 Seasonal apportionment ¹: 2006 Share of gear sector total: Date | 2006 Seasonal apportionment ¹: 2006 Share of gear sector total: Amount | 2007 Share of gear sector total | 2007 Subtotal percentages for gear sectors | 2007 Share of gear sector total | 2007 Seasonal apportionment ¹: Date | 2007 Seasonal apportionment ¹: Amount
Total hook-and-line/pot gear | 51 | 84,533 | n/a | n/a | n/a | n/a | 87,822 | n/a | n/a | n/a | n/a
Hook-and-line/pot ICA | n/a | n/a | n/a | 500 | n/a | n/a | n/a | n/a | 500 | n/a | n/a
Hook-and-line/pot subtotal | n/a | 84,033 | n/a | n/a | n/a | n/a | 87,322 | n/a | n/a | n/a | n/a
Hook-and-line C/P | n/a | n/a | 80 | 67,226 | Jan 1-Jun 10 Jun 10-Dec 31 | 40,336 26,890 | n/a | 80 | 69,858 | Jan 1-Jun 10 Jun 10-Dec 31 | 41,915 27,943
Hook-and-line CV | n/a | n/a | 0.3 | 252 | Jan 1-Jun 10 Jun 10-Dec 31 | 151 101 | n/a | 0.3 | 262 | Jan 1-Jun 10 Jun 10-Dec 31 | 157 105
Pot C/P | n/a | n/a | 3.3 | 2,773 | Jan 1-Jun 10 Sept 1-Dec 31 | 1,664 1,109 | n/a | 3.3 | 2,882 | Jan 1-Jun 10 Sept 1-Dec 31 | 1,729 1,153
Pot CV | n/a | n/a | 15 | 12,605 | Jan 1-Jun 10 Sept 1-Dec 31 | 7,563 5,042 | n/a | 15 | 13,098 | Jan 1-Jun 10 Sept 1-Dec 31 | 7,859 5,239
CV < 60 feet LOA using Hook-and-line or Pot gear | n/a | n/a | 1.4 | 1,176 | n/a | n/a | n/a | 1.4 | 1,223 | n/a | n/a
Total Trawl Gear | 47 | 77,903 | n/a | n/a | n/a | n/a | 80,934 | n/a | n/a | n/a | n/a
Trawl CV |  |  | 50 | 38,951 | Jan 20-Apr 1 Apr 1-Jun 10 Jun 10-Nov 1 | 27,266 3,895 7,790 |  | 50 | 40,467 | Jan 20-Apr 1 Apr 1-Jun 10 Jun 10-Nov 1 | 28,327 4,047 8,093
Trawl CP |  |  | 50 | 38,951 | Jan 20-Apr 1 Apr 1-Jun 10 Jun 10-Nov 1 | 19,476 11,685 7,790 |  | 50 | 40,467 | Jan 20-Apr 1 Apr 1-Jun 10 Jun 10-Nov 1 | 20,234 12,140 8,093
Jig | 2 | 3,315 | n/a | n/a | Jan 1-Apr 30 Apr 30-Aug 31 Aug 31-Dec 31 | 1,326 663 1,326 | 3,444 | n/a | n/a | Jan 1-Apr 30 Apr 30-Aug 31 Aug 31-Dec 31 | 1,378 689 1,378
Total | 100 | 165,750 | n/a | n/a | n/a | n/a | 172,200 | n/a | n/a | n/a | n/a
¹ For most non-trawl gear the first season is allocated 60 percent of the ITAC and the second season is allocated 40 percent of the ITAC. For jig gear, the first season and third seasons are each allocated 40 percent of the ITAC and the second season is allocated 20 percent of the ITAC. No seasonal harvest constraints are imposed for the Pacific cod fishery by catcher vessels less than 60 feet (18.3 m) LOA using hook-and-line or pot gear. For trawl gear, the first season is allocated 60 percent of the ITAC and the second and third seasons are each allocated 20 percent of the ITAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Sablefish Gear Allocation

Regulations at § 679.20(a)(4)(iii) and (iv) require the allocation of sablefish TACs for the Bering Sea and AI subareas between trawl and hook-and-line or pot gear. Gear allocations of the TACs for the Bering Sea subarea are 50 percent for trawl gear and 50 percent for hook-and-line or pot gear and for the AI subarea are 25 percent for trawl gear and 75 percent for hook-and-line or pot gear. Regulations at § 679.20(b)(1)(iii)(B) require apportionment of 20 percent of the hook-and-line and pot gear allocation of sablefish to the CDQ reserve. Additionally, regulations at § 679.20(b)(1)(iii)(A) require apportionment of 7.5 percent of the trawl gear allocation of sablefish (one half of the reserve) to the CDQ reserve. Under regulations at § 679.20(c)(1)(iv), the harvest specifications for the hook-and-line gear and pot gear sablefish IFQ fisheries will be limited to the 2006 fishing year to ensure those fisheries are conducted concurrent with the halibut IFQ fishery. Having sablefish IFQ fisheries concurrent with the halibut IFQ fishery would reduce the potential for discards of halibut and sablefish in those fisheries. The sablefish IFQ fisheries would remain closed at the beginning of each fishing year until the final harvest specifications for the sablefish IFQ fisheries are in effect. The trawl sablefish fishery would be managed using harvest specifications for a 2-year period concurrent with the remaining target species in the BSAI. Table 5 lists the 2006 and 2007 proposed gear allocations of the sablefish TAC and CDQ reserve amounts.

Table 5.—2006 and 2007 Proposed Gear Shares and CDQ Reserve of BSAI Sablefish TACS
[Amounts are in metric tons]
Subarea and gear | Percent of TAC | 2006 Share of TAC | 2006 ITAC ¹ | 2006 CDQ reserve | 2007 Share of TAC | 2007 ITAC | 2007 CDQ reserve
Bering Sea
Trawl ² | 50 | 1,115 | 982 | 87 | 1,200 | 1,020 | 90
Hook-and-line/pot gear ³ | 50 | 1,115 | n/a | 231 | n/a | n/a | n/a
Total | 100 | 2,310 | 982 | 318 | 1,200 | 1,020 | 90
Aleutian Islands
Trawl ² | 25 | 620 | 527 | 47 | 650 | 553 | 49
Hook-and-line/pot gear ³ | 75 | 1,860 | n/a | 372 | n/a | n/a | n/a
Total | 100 | 2,480 | 527 | 419 | 650 | 553 | 49
¹ Except for the sablefish hook-and-line or pot gear allocation, 15 percent of TAC is apportioned to the reserve. The ITAC is the remainder of the TAC after the subtraction of these reserves.
² For the portion of the sablefish TAC allocated to vessels using trawl gear, one half of the reserve (7.5 percent of the specified TAC) is reserved for the CDQ program.
³For the portion of the sablefish TAC allocated to vessels using hook-and-line or pot gear, 20 percent of the allocated TAC is reserved for use by CDQ participants. Regulations in § 679.20(b)(1) do not provide for the establishment of an ITAC for sablefish allocated to hook-and-line or pot gear.

Allocation of PSC Limits for Halibut, Crab, Salmon, and Herring

Section 679.21(e) sets forth the halibut PSC limits. The BSAI halibut mortality limits are 3,675 mt for trawl fisheries and 900 mt for the non-trawl fisheries. Regulations at § 679.21(e)(1)(vii) specify 29,000 fish as the 2006 and 2007 proposed chinook salmon PSC limit for the Bering Sea subarea pollock fishery. Regulations at § 679.21(e)(1)(i) allocate 7.5 percent, or 2,175 chinook salmon, as the proposed PSQ for the CDQ program and allocate the remaining 26,825 chinook salmon to the non-CDQ fisheries. Regulations at § 679.21(e)(1)(ix) specify 700 fish as the 2006 and 2007 proposed chinook salmon PSC limit for the AI subarea pollock fishery. Regulations at § 679.21(e)(1)(i) allocate 7.5 percent, or 53 chinook salmon, as the proposed PSQ for the CDQ program and allocate the remaining 647 chinook salmon to the non-CDQ fisheries. Regulations at § 679.21(e)(1)(viii) specify 42,000 fish as the 2006 and 2007 proposed non-chinook salmon PSC limit. Regulations at § 679.21(e)(1)(i) allocate 7.5 percent, or 3,150 non-chinook salmon, as the proposed PSQ for the CDQ program and allocate the remaining 38,850 non-chinook salmon to the non-CDQ fisheries. PSC limits for crab and herring are specified annually based on abundance and spawning biomass. Due to the lack of new information in October 2005 regarding PSC limits and apportionments in October 2005, the Council recommended using the halibut, crab, and herring 2005 and 2006 PSC amounts for the proposed 2006 and 2007 amounts. The Council will reconsider these amounts in December 2005, based on recommendations by the Plan Team and the SSC.

The red king crab mature female abundance is estimated from the 2004 survey data as 35.4 million king crab and the effective spawning biomass is estimated as 61.9 million pounds (28,077 mt). Based on the criteria set out at § 679.21(e)(1)(ii), the 2006 and 2007 proposed PSC limit of red king crab in Zone 1 for trawl gear is 197,000 animals as a result of the mature female abundance being above 8.4 million king crab and of the effective spawning biomass estimate being greater than 55 million pounds (24,948 mt).

Regulations at § 679.21(e)(3)(ii)(B) establish criteria under which NMFS must specify an annual red king crab bycatch limit for the Red King Crab Savings Subarea (RKCSS). The regulations limit the bycatch limit within the RKCSS to up to 35 percent of the trawl bycatch allowance specified for the rock sole/flathead sole/“other flatfish” fishery category and is based on the need to optimize the groundfish harvest relative to red king crab bycatch. The Council recommended, and NMFS proposes, a red king crab bycatch limit equal to 35 percent of the trawl bycatch allowance specified for the rock sole/flathead sole/“other flatfish” fishery category within the RKCSS.

Based on 2004 survey data, Tanner crab Chionoecetes bairdi abundance is estimated as 437.41 million animals. Given the criteria set out at § 679.21(e)(1)(iii), the 2006 and 2007 proposed C. bairdi crab PSC limit for trawl gear is 980,000 animals in Zone 1 and 2,970,000 animals in Zone 2 as a result of the C. bairdi crab abundance estimate of over 400 million animals.

Under § 679.21(e)(1)(iv), the PSC limit for snow crab C. opilio is based on total abundance as indicated by the NMFS annual bottom trawl survey. The C. opilio crab PSC limit is set at 0.1133 percent of the Bering Sea abundance index. Based on the 2004 survey estimate of 4.421 billion animals, the calculated limit is 5,008,993 animals. Under § 679.21(e)(1)(iv)(B), the 2006 and 2007 proposed C. opilio crab PSC limit is 5,008,993 million animals minus 150,000 animals, which results in a limit of 4,858,993 animals.

Under § 679.21(e)(1)(vi), the proposed PSC limit of Pacific herring caught while conducting any trawl operation for groundfish in the BSAI is 1 percent of the annual eastern Bering Sea herring biomass. The best estimate of 2005 and 2006 herring biomass is 201,180 mt. This amount was derived using 2004 survey data and an age-structured biomass projection model developed by the Alaska Department of Fish and Game. Therefore, the proposed herring PSC limit for 2006 and 2007 is 2,012 mt.

Under § 679.21(e)(1)(i), 7.5 percent of each PSC limit specified for crab and halibut is allocated as a PSQ reserve for use by the groundfish CDQ program. Regulations at § 679.21(e)(3) require the apportionment of each trawl PSC limit into PSC bycatch allowances for seven specified fishery categories. Regulations at § 679.21(e)(4)(ii) authorize the apportionment of the non-trawl halibut PSC limit into PSC bycatch allowances for five fishery categories. Table 6 lists the proposed fishery bycatch allowances for the trawl and non-trawl fisheries.

Regulations at § 679.21(e)(4)(ii) authorize exemption of specified non-trawl fisheries from the halibut PSC limit. As in past years, NMFS, after consultation with the Council, proposes to exempt pot gear, jig gear, and the sablefish IFQ hook-and-line gear fishery categories from halibut bycatch restrictions because: (1) The pot gear fisheries experience low halibut bycatch mortality, (2) halibut mortality for the jig gear fleet cannot be estimated because these vessels do not carry observers, and (3) the sablefish and halibut Individual Fishing Quota (IFQ) program (subpart D of 50 CFR part 679) requires legal-sized halibut to be retained by vessels using hook-and-line gear if a halibut IFQ permit holder or a hired master is aboard and is holding unused halibut IFQ. In 2005, total groundfish catch for the pot gear fishery in the BSAI was approximately 16,971 mt, with an associated halibut bycatch mortality of about 4 mt. The 2005 groundfish jig gear fishery harvested about 123 mt of groundfish. Most vessels in the jig gear fleet are less than 60 ft (18.3 m) LOA and are exempt from observer coverage requirements. As a result, observer data are not available on halibut bycatch in the jig gear fishery. However, a negligible amount of halibut bycatch mortality is assumed because of the selective nature of this gear type and the likelihood that halibut caught with jig gear have a high survival rate when released.

Regulations at § 679.21(e)(5) authorize NMFS, after consultation with the Council, to establish seasonal apportionments of PSC amounts in order to maximize the ability of the fleet to harvest the available groundfish TAC and to minimize bycatch. The factors to be considered are: (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The Council recommended seasonal PSC apportionments to maximize harvest among gear types, fisheries, and seasons while minimizing bycatch of PSC based on the above criteria. NMFS proposes the Council's recommendations listed in Table 6.

Table 6.-2006 and 2007 Proposed Prohibited Species by Catch Allowances for the BSAI Trawl and Non-Trawl Fisheries
Trawl fisheries | Prohibited species and zone: Halibut mortality (mt) BSAI | Prohibited species and zone: Herring (mt) BSAI | Prohibited species and zone: Red king Crab (animals) Zone 1 ¹ | Prohibited species and zone: C. opilio (animals) COBLZ ¹ | Prohibited species and zone: C. bairdi (animals): Zone 1 ¹ | Prohibited species and zone: C. bairdi (animals): Zone 2 ¹
Yellowfin sole | 886 | 183 | 33,843 | 3,101,915 | 340,844 | 1,788,459
January 20-April 1 | 262 |  |  |  |  |
April 1-May 21 | 195 |  |  |  |  |
May 21-July 1 | 49 |  |  |  |  |
July 1-December 31 | 380 |  |  |  |  |
Rock sole/other flat/flathead sole2,6 | 779 | 27 | 121,413 | 1,082,528 | 365,320 | 596,154
January 20-April 1 | 448 |  |  |  |  |
April 1-July 1 | 164 |  |  |  |  |
July 1-December 31 | 167 |  |  |  |  |
Turbot/arrowtooth/sablefish ³ |  | 12 |  | 44,946 |  |
Rockfish |  |  |  |  |  |
July 1-December 31 | 69 | 10 |  | 44,945 |  | 10,988
Pacific cod | 1,434 | 27 | 26,563 | 139,331 | 183,112 | 324,176
Midwater trawl pollock |  | 1,562 |  |  |  |
Pollock/Atka mackerel/other ⁴ | 232 | 192 | 406 | 80,903 | 17,224 | 27,473
Red King Crab Savings Subarea ⁶ |  |  |  |  |  |
(non-pelagic trawl) |  |  | 42,495 |  |  |
Total trawl PSC | 3,400 | 2,012 | 182,225 | 4,494,569 | 906,500 | 2,747,250
Non-trawl fisheries |  |  |  |  |  |
Pacific cod—Total | 775 |  |  |  |  |
January 1-June 10 | 320 |  |  |  |  |
June 10-August 15 | 0 |  |  |  |  |
August 15-December 31 | 455 |  |  |  |  |
Other non-trawl—Total | 58 |  |  |  |  |
May 1-December 31 | 58 |  |  |  |  |
Groundfish pot and jig | exempt |  |  |  |  |
Sablefish hook-and-line | exempt |  |  |  |  |
Total non-trawl PSC | 833 |  |  |  |  |
PSQ reserve ⁵ | 342 |  | 14,775 | 364,424 | 73,500 | 222,750
PSC grand total | 4,575 | 2,012 | 197,000 | 4,858,993 | 980,000 | 2,970,000
¹ Refer to § 679.2 for definitions of areas.
² “Other flatfish” for PSC monitoring includes all flatfish species, except for halibut (a prohibited species), Greenland turbot, rock sole, yellowfin sole, and arrowtooth flounder.
³ Greenland turbot, arrowtooth flounder, and sablefish fishery category.
⁴ Pollock other than pelagic trawl pollock, Atka mackerel, and “other species” fishery category.
⁵ With the exception of herring, 7.5 percent of each PSC limit is allocated to the CDQ program as PSQ reserve. The PSQ reserve is not allocated by fishery, gear, or season.
⁶ In October 2005, the Council recommended that red king crab bycatch for trawl fisheries within the RKCSS be limited to 35 percent of the total allocation to the rock sole/flathead sole/”other flatfish” fishery category (see § 679.21(e)(3)(ii)(B)).

Halibut Discard Mortality Rates

To monitor halibut bycatch mortality allowances and apportionments, the Regional Administrator will use observed halibut bycatch rates, assumed discard mortality rates (DMR), and estimates of groundfish catch to project when a fishery's halibut bycatch mortality allowance or seasonal apportionment is reached. The DMRs are based on the best information available, including information contained in the annual SAFE report.

The Council recommended and NMFS proposes that the recommended halibut DMRs developed by staff of the International Pacific Halibut Commission (IPHC) for the 2005 and 2006 BSAI groundfish fisheries be used for monitoring halibut bycatch allowances established for the 2006 and 2007 groundfish fisheries (see Table 7). The IPHC developed these DMRs using the 10-year mean DMRs for the BSAI non-CDQ groundfish fisheries. Plots of annual DMRs against the 10-year mean indicated little change since 1990 for most fisheries. DMRs were more variable for the smaller fisheries that typically take minor amounts of halibut bycatch. The IPHC will analyze observer data annually and recommend changes to the DMRs where a fishery DMR shows large variation from the mean. The IPHC has been calculating the CDQ fisheries DMRs since 1998, and a 10-year mean is not yet available. The justification for the proposed DMRs is discussed in Appendix A to the final SAFE report dated November 2004. The proposed DMRs listed in Table 7 are subject to change pending the results of an updated analysis on halibut DMRs in the groundfish fisheries that IPHC staff is scheduled to present to the Council at its December 2005 meeting.

Table 7.—2006 and 2007 Proposed Assumed Pacific Halibut Discard Mortality Rates for the BSAI Fisheries
Fishery | Mortality rates (percent)
Hook-and-line gear fisheries:
Greenland turbot | 15
Other species | 11
Pacific cod | 11
Rockfish | 16
Trawl gear fisheries:
Atka mackerel | 78
Flathead sole | 67
Greenland turbot | 72
Non-pelagic pollock | 76
Pelagic pollock | 85
Other flatfish | 71
Other species | 67
Pacific cod | 68
Rockfish | 74
Rock sole | 77
Sablefish | 49
Yellowfin sole | 78
Pot gear fisheries:
Other species | 8
Pacific cod | 8
CDQ trawl fisheries:
Atka mackerel | 85
Flathead sole | 67
Non-pelagic pollock | 85
Pelagic pollock | 90
Rockfish | 74
Yellowfin sole | 84
CDQ hook-and-line fisheries:
Greenland turbot | 15
Pacific cod | 10
CDQ pot fisheries:
Pacific cod | 8
Sablefish | 33

Bering Sea Subarea Inshore Pollock Allocations

Regulations at § 679.4(l) set forth procedures for AFA inshore catcher vessel pollock cooperatives to apply for and receive cooperative fishing permits and inshore pollock allocations. For 2006, NMFS received applications from seven inshore catcher vessel cooperatives. Table 8 lists the proposed pollock allocations to the seven inshore catcher vessel pollock cooperatives based on applications for membership in the cooperatives received by NMFS for 2006. This membership is assumed to remain unchanged for 2007. For 2006 and 2007, the sum of the member vessel's official catch histories increased as revised catch history became available. Allocations for cooperatives and open access vessels are not made for the AI subarea because the Consolidated Appropriations Act of 2004 requires the non-CDQ directed pollock fishery to be fully allocated to the Aleut Corporation. The Bering Sea subarea allocations may be revised pending adjustments to the pollock TACs.

Table 8.—2006 and 2007 Proposed Bering Sea Subarea Inshore Cooperative Allocations
[Amounts are in metric tons]
Cooperative name and member vessels | Sum of member vessel's official catch histories ¹ (mt) | Percentage of inshore sector allocation | 2006 Annual cooperative allocation (mt) | 2007 Annual cooperative allocation (mt)
Akutan Catcher Vessel Association |  | 31.145 | 201,215 | 165,434
Arctic Enterprise Association |  | 1.146 | 7,402 | 6,086
Northern Victor Fleet Cooperative |  | 8.412 | 54,350 | 44,684
Peter Pan Fleet Cooperative |  | 2.876 | 18,582 | 15,279
Unalaska Cooperative |  | 12.191 | 78,758 | 64,753
UniSea Fleet Cooperative |  | 25.324 | 163,609 | 134,516
Westward Fleet Cooperative |  | 18.906 | 122,142 | 100,423
Open access AFA vessels |  | 0 | 0 | 0
Total inshore allocation | 875,572 | 100 | 646,058 | 531,175
¹ According to regulations at § 679.62(e)(1), the individual catch history for each vessel is equal to the vessel's best 2 of 3 years inshore pollock landings from 1995 through 1997 and includes landings to catcher/processors for vessels that made 500 or more mt of landings to catcher/processors from 1995 through 1997.

Section 679.20(a)(5)(i)(A)(3) further divides the inshore sector allocation into separate allocations for cooperative and open access fishing. In addition, according to § 679.22(a)(7)(vii), NMFS must establish harvest limits inside the SCA and provide a set-aside so that catcher vessels less than or equal to 99 ft (30.2 m) LOA have the opportunity to operate entirely within the SCA until April 1. Accordingly, Table 9 lists the proposed Bering Sea subarea inshore pollock allocation to the cooperative and open access sectors and establishes a cooperative-sector SCA set-aside for AFA catcher vessels less than or equal to 99 ft (30.2 m) LOA. The SCA set-aside for catcher vessels less than or equal to 99 ft (30.2 m) LOA that are not participating in a cooperative will be established inseason based on actual participation levels and is not included in Table 9. These proposed allocations may be revised pending final review and approval of 2006 and 2007 pollock TACs.

Table 9.—2006 and 2007 Proposed Bering Sea Subarea Pollock Allocations to the Cooperative and Open Access Sectors of the Inshore Pollock Fishery
[Amounts are in metric tons]
Sector | 2006 A season TAC | 2006 A season SCA harvest limit ¹ | 2006 B season TAC | 2007 A season TAC | 2007 A season SCA harvest limit ¹ | 2007 B season TAC
Inshore cooperative sector |  |  |  |  |  |
Vessels >99 ft | n/a | 155,400 | n/a | n/a | 127,767 | n/a
Vessels ≤99 ft | n/a | 25,496 | n/a | n/a | 20,962 | n/a
Total | 258,423 | 180,896 | 387,635 | 212,470 | 148,729 | 318,705
Open access sector | 0 | 0 ² | 0 | 0 | 0 ² | 0
Total inshore sector | 258,423 | 180,896 | 387,635 | 212,470 | 148,729 | 318,705
¹ The Steller sea lion conservation area (SCA) established at § 679.22(a)(7)(vii).
² The SCA limitations for vessels less than or equal to 99 ft LOA that are not participating in a cooperative will be established on an inseason basis in accordance with § 679.22(a)(7)(vii)(C)(2) which specifies that the Regional Administrator will prohibit directed fishing for pollock by vessels greater than 99 ft (30.2 m) LOA, catching pollock for processing by the inshore component before reaching the inshore SCA harvest limit before April 1 to accommodate fishing by vessels less than or equal to 99 ft (30.2 m) inside the SCA until April 1.”

Listed AFA Catcher/Processor Sideboard Limits

According to § 679.64(a), the Regional Administrator will restrict the ability of listed AFA catcher/processors to engage in directed fishing for groundfish species other than pollock to protect participants in other groundfish fisheries from adverse effects resulting from the AFA and from fishery cooperatives in the directed pollock fishery. The basis for these sideboard limits is described in detail in the final rule implementing major provisions of the AFA (67 FR 79692, December 30, 2002). Table 10 lists the 2006 and 2007 proposed catcher/processor sideboard limits.

All groundfish other than pollock that are harvested by listed AFA catcher/processors, whether as targeted catch or incidental catch, will be deducted from the proposed sideboard limits in Table 10. However, groundfish other than pollock that are delivered to listed catcher/processors by catcher vessels will not be deducted from the 2006 and 2007 proposed sideboard limits for the listed catcher/processors.

Table 10.—2006 and 2007 Proposed Listed BSAI American Fisheries Act Catcher/Processor Groundfish Sideboard Limits
[Amounts are in metric tons]
Target species | Area | 1995-1997: Retained catch | 1995-1997: Total catch | 1995-1997: Ratio of retained catch to total catch | 2006 Proposed ITAC available to trawl C/Ps | 2006 Proposed C/P sideboard limit | 2007 Proposed ITAC available to trawl C/Ps | 2007 Proposed C/P sideboard limit
Pacific cod trawl | BSAI | 12,424 | 48,177 | 0.258 | 38,951 | 10,049 | 40,467 | 10,440
Sablefish trawl | BS | 8 | 497 | 0.016 | 982 | 16 | 1,020 | 16
| AI | 0 | 145 | 0.000 | 527 | 0 | 553 | 0
Atka mackerel | Western AI
| A season ¹ | n/a | n/a | 0.200 | 8,500 | 1,700 | 12,251 | 2,450
| HLA limit ² | n/a | n/a | n/a | 5,100 | 1,020 | 7,351 | 1,470
| B season | n/a | n/a | 0.200 | 8,500 | 1,700 | 12,251 | 2,450
| HLA limit | n/a | n/a | n/a | 5,100 | 1,020 | 7,351 | 1,470
| Central AI
| A season ¹ | n/a | n/a | 0.115 | 15,088 | 1,735 | 21,745 | 2,501
| HLA limit | n/a | n/a | n/a | 9,053 | 1,041 | 13,047 | 1,500
| B season | n/a | n/a | 0.115 | 15,088 | 1,735 | 21,745 | 2,501
| HLA limit | n/a | n/a | n/a | 9,053 | 1,041 | 13,047 | 1,500
Yellowfin sole | BSAI | 100,192 | 435,788 | 0.230 | 76,500 | 17,595 | 93,160 | 21,427
Rock sole | BSAI | 6,317 | 169,362 | 0.037 | 35,700 | 1,321 | 98,685 | 3,651
Greenland turbot | BS | 121 | 17,305 | 0.007 | 2,125 | 15 | 6,375 | 45
| AI | 23 | 4,987 | 0.005 | 850 | 4 | 2,550 | 13
Arrowtooth flounder | BSAI | 76 | 33,987 | 0.002 | 10,200 | 20 | 33,235 | 66
Flathead sole | BSAI | 1,925 | 52,755 | 0.036 | 17,000 | 612 | 43,010 | 1,548
Alaska plaice | BSAI | 14 | 9,438 | 0.001 | 8,500 | 9 | 55,250 | 55
Other flatfish | BSAI | 3,058 | 52,298 | 0.058 | 2,550 | 148 | 18,190 | 1,055
Pacific ocean perch | BS | 12 | 4,879 | 0.002 | 1,190 | 2 | 1,426 | 3
| Western AI | 54 | 13,598 | 0.004 | 4,322 | 17 | 5,182 | 21
| Central AI | 3 | 5,698 | 0.001 | 2,580 | 3 | 3,091 | 3
| Eastern AI | 125 | 6,179 | 0.020 | 2,618 | 52 | 3,136 | 63
Northern rockfish | BSAI | 91 | 13,040 | 0.007 | 4,250 | 30 | 6,970 | 49
Shortraker rockfish | BSAI | 50 | 2,811 | 0.018 | 507 | 9 | 507 | 9
Rougheye rockfish | BSAI | 50 | 2,811 | 0.018 | 190 | 3 | 190 | 3
Other rockfish | BS | 18 | 621 | 0.029 | 391 | 11 | 689 | 20
| AI | 22 | 806 | 0.027 | 502 | 14 | 502 | 14
Squid | BSAI | 73 | 3,328 | 0.022 | 1,084 | 24 | 1,675 | 37
Other species | BSAI | 553 | 68,672 | 0.008 | 24,820 | 199 | 42,500 | 340
¹ The seasonal apportionment of Atka mackerel in the open access fishery is 50 percent in the A season and 50 percent in the B season. Listed AFA catcher/processors are limited to harvesting no more than zero in the Eastern Aleutian District and Bering Sea subarea, 20 percent of the annual TAC specified for the Western Aleutian District, and 11.5 percent of the annual TAC specified for the Central Aleutian District.
² Harvest Limit Area (HLA) limit refers to the amount of each seasonal allowance that is available for fishing inside the HLA (see § 679.2). In 2006 and 2007, 60 percent of each seasonal allowance is available for fishing inside the HLA in the Western and Central Aleutian Districts.

Section 679.64(a)(5) establishes a formula for PSC sideboard limits for listed AFA catcher/processors. These amounts are equivalent to the percentage of PSC amounts taken in the groundfish fisheries other than pollock by the AFA catcher/processors listed in subsection 208(e) and section 209 of the AFA from 1995 through 1997 (see Table 10). These amounts were used to calculate the relative amount of PSC that was caught by pollock catcher/processors shown in Table 10. That relative amount of PSC was then used to determine the PSC sideboard limits for listed AFA catcher/processors in the 2006 and 2007 groundfish fisheries other than pollock.

Halibut and crab PSC, listed in Table 11, that are caught by listed AFA catcher/processors participating in any groundfish fishery other than pollock will accrue against the 2006 and 2007 proposed PSC sideboard limits for the listed AFA catcher/processors. Section 679.21(e)(3)(v) authorizes NMFS to close directed fishing for groundfish other than pollock for listed AFA catcher/processors once a 2006 or 2007 proposed PSC sideboard limit listed in Table 11 is reached.

Crab or halibut PSC caught by listed AFA catcher/processors while fishing for pollock will accrue against the bycatch allowances annually specified for either the midwater pollock or the pollock/Atka mackerel/&ldquo;other species&rdquo; fishery categories according to regulations at § 679.21(e)(3)(iv).

Table 11.—2006 and 2007 Proposed BSAI American Fisheries Act Listed Catcher/Processor Prohibited Species Sideboard Limits ¹
PSC species | 1995-1997: PSC catch | 1995-1997: Total PSC | 1995-1997: Ratio of PSC catch to total PSC | 2006 and 2007 Proposed PSC available to trawl vessels | 2006 and 2007 Proposed C/P sideboard limit
Halibut mortality | 955 | 11,325 | 0.084 | 3,400 | 286
Red king crab | 3,098 | 473,750 | 0.007 | 182,225 | 1,276
C. opilio | 2,323,731 | 15,139,178 | 0.153 | 4,494,569 | 687,669
C. bairdi
Zone 1 ² | 385,978 | 2,750,000 | 0.140 | 906,500 | 126,910
Zone 2 ² | 406,860 | 8,100,000 | 0.050 | 2,747,250 | 137,363
¹ Halibut amounts are in metric tons of halibut mortality. Crab amounts are in numbers of animals.
² Refer to § 679.2 for definitions of areas.

AFA Catcher Vessel Sideboard Limits

Under § 679.64(b), the Regional Administrator restricts the ability of AFA catcher vessels to engage in directed fishing for groundfish species other than pollock to protect participants in other groundfish fisheries from adverse effects resulting from the AFA and from fishery cooperatives in the directed pollock fishery. Section 679.64(b) establishes formulas for setting AFA catcher vessel groundfish and PSC sideboard limits for the BSAI. The basis for these sideboard limits is described in detail in the final rule implementing major provisions of the AFA (67 FR 79692, December 30, 2002). Tables 12 and 13 list the 2006 and 2007 proposed catcher vessel sideboard limits.

All harvests of groundfish sideboard species made by non-exempt AFA catcher vessels, whether as targeted catch or as incidental catch, will be deducted from the 2006 and 2007 proposed sideboard limits listed in Table 12.

Table 12.—2006 and 2007 Proposed BSAI American Fisheries Act Catcher Vessel Sideboard Limits
[Amounts are in metric tons]
Species | Fishery by area/season/processor/gear | Ratio of 1995-1997 AFA CV catch to 1995-1997 TAC | 2006 Proposed initial TAC | 2006 Proposed catcher vessel sideboard limits | 2007 Proposed initial TAC | 2007 Proposed catcher vessel sideboard limits
Pacific cod | BSAI
| Jig gear | 0.0000 | 3,315 | 0 | 3,444 | 0
| Hook-and-line CV
| Jan 1-Jun 10 | 0.0006 | 151 | 0 | 157 | 0
| Jun 10-Dec 31 | 0.0006 | 101 | 0 | 105 | 0
| Pot gear CV
| Jan 1-Jun 10 | 0.0006 | 7,563 | 5 | 7,859 | 5
| Sept 1-Dec 31 | 0.0006 | 5,042 | 3 | 5,239 | 3
| CV < 60 feet LOA using hook- and-line or pot gear | 0.0006 | 1,176 | 1 | 1,223 | 1
| Trawl gear CV
| Jan 20-Apr 1 | 0.8609 | 27,266 | 23,473 | 28,327 | 24,387
| Apr 1-Jun 10 | 0.8609 | 3,895 | 3,353 | 4,047 | 3,484
| Jun 10-Nov 1 | 0.8609 | 7,790 | 6,706 | 8,093 | 6,967
Sablefish | BS trawl gear | 0.0906 | 982 | 89 | 1,020 | 92
| AI trawl gear | 0.0645 | 527 | 34 | 553 | 36
Atka mackerel | Eastern AI/BS
| Jig gear | 0.0031 | 64 | 0 | 92 | 0
| Other gear
| Jan 1-Apr 15 | 0.0032 | 3,155 | 10 | 4,548 | 15
| Sept 1-Nov 1 | 0.0032 | 3,155 | 10 | 4,548 | 15
| Central AI
| Jan-Apr 15 | 0.0001 | 15,088 | 2 | 21,745 | 2
| HLA limit | 0.0001 | 9,053 | 1 | 13,047 | 1
| Sept 1-Nov 1 | 0.0001 | 15,088 | 2 | 21,745 | 2
| HLA limit | 0.0001 | 9,053 | 1 | 13,047 | 1
| Western AI
| Jan-Apr 15 | 0.0000 | 8,500 | 0 | 12,251 | 0
| HLA limit | n/a | 5,100 | 0 | 7,351 | 0
| Sept 1-Nov 1 | 0.0000 | 8,500 | 0 | 12,251 | 0
| HLA limit | n/a | 5,100 | 0 | 7,351 | 0
Yellowfin sole | BSAI | 0.0647 | 76,500 | 4,950 | 93,160 | 6,027
Rock sole | BSAI | 0.0341 | 35,700 | 1,217 | 98,685 | 3,365
Greenland Turbot | BS | 0.0645 | 2,125 | 137 | 6,375 | 411
| AI | 0.0205 | 850 | 17 | 2,550 | 52
Arrowtooth flounder | BSAI | 0.0690 | 10,200 | 704 | 33,235 | 2,293
Alaska plaice | BSAI | 0.0441 | 8,500 | 375 | 55,250 | 2,437
Other flatfish | BSAI | 0.0441 | 2,550 | 112 | 18,190 | 802
Pacific ocean perch | BS | 0.1000 | 1,190 | 119 | 1,426 | 143
| Eastern AI | 0.0077 | 2,618 | 20 | 3,136 | 24
| Central AI | 0.0025 | 2,580 | 6 | 3,091 | 8
| Western AI | 0.0000 | 4,322 | 0 | 5,182 | 0
Northern rockfish | BSAI | 0.0084 | 4,250 | 36 | 6,970 | 59
Shortraker rockfish | BSAI | 0.0037 | 507 | 2 | 507 | 2
Rougheye rockfish | BSAI | 0.0037 | 190 | 1 | 190 | 1
Other rockfish | BS | 0.0048 | 391 | 2 | 689 | 3
| AI | 0.0095 | 502 | 5 | 502 | 5
Squid | BSAI | 0.3827 | 1,084 | 415 | 1,675 | 641
Other species | BSAI | 0.0541 | 24,820 | 1,343 | 42,500 | 2,299
Flathead Sole | BS trawl gear | 0.0505 | 17,000 | 859 | 43,010 | 2,172

The AFA catcher vessel PSC limits for halibut and crab species in the BSAI for which a trawl bycatch limit has been established will be a portion of the PSC limit equal to the ratio of aggregate retained groundfish catch by AFA catcher vessels in each PSC target category from 1995 through 1997, relative to the retained catch of all vessels in that fishery from 1995 through 1997. Table 13 lists the 2006 and 2007 proposed PSC sideboard limits for AFA catcher vessels.

Halibut and crab PSC, listed in Table 13, that are caught by AFA catcher vessels participating in any groundfish fishery other than pollock will accrue against the 2006 and 2007 proposed PSC sideboard limits for the AFA catcher vessels. Sections 679.21(d)(8) and (e)(3)(v) authorize NMFS to close directed fishing for groundfish other than pollock for AFA catcher vessels once a 2006 and 2007 proposed PSC sideboard limit listed in Table 13 is reached. The PSC caught by AFA catcher vessels, while fishing for pollock in the BSAI, will accrue against the bycatch allowances annually specified for either the midwater pollock or the pollock/Atka mackerel/“other species”' fishery categories under regulations at § 679.21(e)(3)(iv).

Table 13.—2006 and 2007 Proposed BSAI American Fisheries Act Catcher Vessel Prohibited Species Catch Sideboard Limits ¹
[Amounts are in metric tons]
PSC species | Target fishery category ² | Ratio of 1995-1997 AFA catcher vessel retained catch to total retained catch | 2006 and 2007 Proposed PSC limit | 2006 and 2007 Proposed AFA catcher vessel PSC sideboard limit
Halibut | Pacific cod trawl | 0.6183 | 1,434 | 887
| Pacific cod hook-and-line or pot | 0.0022 | 775 | 2
| Yellowfin sole |  |  |
| January 20-April 1 | 0.1144 | 262 | 30
| April 1-May 21 | 0.1144 | 195 | 22
| May 21-July 5 | 0.1144 | 49 | 6
| July 5-December 31 | 0.1144 | 380 | 43
| Rock sole/flathead sole/other flatfish ⁵ |  |  |
| January 20-April 1 | 0.2841 | 448 | 127
| April 1-July 5 | 0.2841 | 164 | 47
| July 5-December 31 | 0.2841 | 167 | 47
| Turbot/Arrowtooth/Sablefish | 0.2327 | 0 | 0
| Rockfish (July 1-December 31) | 0.0245 | 69 | 2
| Pollock/Atka mackerel/other species | 0.0227 | 232 | 5
Red King Crab | Pacific cod | 0.6183 | 26,563 | 16,424
Zone 1 ⁴ | Yellowfin sole | 0.1144 | 33,843 | 3,872
| Rock sole/flathead sole/other flatfish ⁵ | 0.2841 | 121,413 | 34,493
| Pollock/Atka mackerel/other species | 0.0227 | 406 | 9
C. opilio | Pacific cod | 0.6183 | 139,331 | 86,148
COBLZ ³ | Yellowfin sole | 0.1144 | 3,101,915 | 354,859
| Rock sole/flathead sole/other flatfish ⁵ | 0.2841 | 1,082,528 | 307,546
| Pollock/Atka mackerel/other species | 0.0227 | 80,903 | 1,836
| Rockfish | 0.0245 | 44,945 | 1,101
| Turbot/Arrowtooth/Sablefish | 0.2327 | 44,946 | 10,459
C. bairdi | Pacific cod | 0.6183 | 183,112 | 113,218
Zone 1 ³ | Yellowfin sole | 0.1144 | 340,844 | 38,993
| Rock sole/flathead sole/other flatfish ⁵ | 0.2841 | 365,320 | 103,787
| Pollock/Atka mackerel/other species | 0.0227 | 17,224 | 391
C. bairdi | Pacific cod | 0.6183 | 324,176 | 200,438
Zone 2 ³ | Yellowfin sole | 0.1144 | 1,788,459 | 204,600
| Rock sole/flathead sole/other flatfish ⁵ | 0.2841 | 596,154 | 169,367
| Pollock/Atka mackerel/other species | 0.0227 | 27,473 | 624
| Rockfish | 0.0245 | 10,988 | 269
¹ Halibut amounts are in metric tons of halibut mortality. Crab amounts are in numbers of animals.
² Target fishery categories are defined in regulation at § 679.21(e)(3)(iv).
³ Refer to 679.2 for definitions of areas.
⁴ In October 2005, the Council recommended that red king crab bycatch for trawl fisheries within the RKCSS be limited to 35 percent of the total allocation to the rock sole/flathead sole/“other flatfish” fishery category (see § 679.21(e)(3)(ii)(B)).
⁵ “Other flatfish” for PSC monitoring includes all flatfish species, except for halibut (a prohibited species), Greenland turbot, rock sole, yellowfin sole, and arrowtooth flounder.

Classification

NMFS has determined that the proposed specifications are consistent with the FMP and preliminarily determined that the proposed specifications are consistent with the Magnuson-Stevens Act and other applicable laws.

This action is authorized under 50 CFR 679.20 and is exempt from review under Executive Order 12866.

An IRFA was prepared to evaluate the impacts of the 2006 and 2007 proposed harvest specifications on directly regulated small entities. This IRFA is intended to meet the statutory requirements of the Regulatory Flexibility Act (RFA). The reason for the action, a statement of the objective of the action and the legal basis are discussed in the preamble and are not repeated here.

The 2006 and 2007 harvest specifications establish harvest limits for the groundfish species and species groups in the BSAI. This action is necessary to allow fishing in 2006 and 2007. Entities directly impacted are those fishing for groundfish in the Exclusive Economic Zone (EEZ), or in parallel fisheries in State waters (in which harvests are counted against the Federal TAC). An estimated 693 small catcher vessels, 18 small catcher/processors, and 6 small private non-profit CDQ groups may be directly regulated by these harvest specifications in the BSAI. The catcher vessel estimate in particular is subject to various uncertainties; it may provide an underestimate since it does not count vessels that fish only within State parallel fisheries; this may be offset by upward biases introduced by the use of preliminary price estimates (which don't fully account for post-season price adjustments) and by a failure to account for affiliations, other than AFA cooperative affiliations, among entities. For these reasons, the catcher vessel estimate must be considered an approximation.

The IRFA examined the impacts of the preferred alternative on small entities within fisheries reliant on species groups whose TACs might be notably adjusted by the harvest specifications. The IRFA identified the potential for adverse impacts on small fishing operations harvesting pollock and Pacific cod, and on CDQ groups, in the BSAI.

In the BSAI, small Pacific cod fishing operations would experience an estimated 2.3 percent reduction in their gross revenues from all sources in 2006, and an estimated reduction of 6.3 percent in revenues from all sources between 2005 and 2007. The pollock fishery will be the other major fishery to experience large reductions in gross revenues. These are estimated to rise by less than 1 percent in 2006, but to decline by about 11.6 percent from 2005 to 2007. Aside from the CDQ groups, this fishery is dominated by large entities. Targeted pollock fishing by non-CDQ operations is limited to AFA affiliated entities, and one Native Corporation. Operations affiliated with AFA cooperatives are considered to be large entities. The Native Corporation is considered to be a holding company, and, on the basis of estimated gross revenues, is believed to be large. Incidental catch appears to be concentrated among catcher/processors fishing for flatfish and Pacific cod. A large proportion of these vessels are considered large. However, some small catcher/processor operations taking pollock incidentally in their fishing operations may be adversely affected in 2007. Adverse impacts for catcher/processor vessels in 2007 may be mitigated by increases in TACs for several of their target flatfish species. CDQ groups are considered to be small entities by virtue of their status as non-profit organizations. CDQ group revenues are expected to be almost unchanged in 2006, but to drop by about 15 percent in 2007, due to projected declines in TACs for their key species, pollock.

This analysis examined four alternatives to the preferred alternative. These included alternatives that set TACs to produce fishing rates equal to maxFABC, ½ maxFABC, the recent 5 year average F, and zero. Only one of these alternatives, setting TACs to produce fishing rates of maxFABC, would potentially have a smaller adverse impact on small entities than the preferred alternative. This alternative is associated with larger gross revenues for the BSAI fisheries in 2006, but with similar gross revenues in 2007. Many of the vessels identified above would share in these gross revenues. However, the maxFABC is a fishing rate that may, and often does, exceed ABCs recommended by stock assessment scientists on the basis of circumstances unique to each species. The increases in TACs related to producing fishing rates of maxFABC would not be consistent with biologically prudent fishery management because they do not fall within the scientifically determined ABC. Moreover, in 2006, the sum of the TACs contemplated under Alternative 1 would also exceed the statutorily mandated two million mt optimum yield for the BSAI (it would exceed this by only a small amount in 2007).

A copy of the IRFA is available from NMFS (see ADDRESSES).

This regulation does not impose new recordkeeping or reporting requirements on the regulated small entities. This analysis did not reveal any Federal rules that duplicate, overlap, or conflict with the proposed action.

Authority: 16 U.S.C. 773 et seq.; 1540(f); 1801 et seq.; 1851 note; and 3631 et seq.

Dated: December 12, 2005.
James W. Balsiger,
Acting Deputy Assistant Administrator for Regulatory Programs, National Marine Fisheries Service.

[FR Doc. 05-24168 Filed 12-15-05; 8:45 am]

BILLING CODE 3510-22-P